DEPARTMENT OF THE TREASURY

Internal Revenue Service

Open Meeting of the Taxpayer Advocacy Panel Earned Income Tax Credit Issue Committee

AGENCY: Internal Revenue Service (IRS), Treasury.

ACTION: Notice.

SUMMARY: An open meeting of the Taxpayer Advocacy Panel Earned Income Tax Credit Issue Committee will be conducted in Washington, DC. The Taxpayer Advocacy Panel is soliciting public comments, ideas and suggestions on improving customer service at the Internal Revenue Service.

DATES: The meeting will be held Wednesday, December 13, 2006, from 8 a.m. EST to 12 noon EST.

FOR FURTHER INFORMATION CONTACT: Audrey Y. Jenkins at 1-888-912-1227 (toll-free), or 718-488-2085.

SUPPLEMENTARY INFORMATION: Notice is hereby given pursuant to Section 10(a)(2) of the Federal Advisory Committee Act, 5 U.S.C. App. (1988) that an open meeting of the Taxpayer Advocacy Panel Earned Income Tax Credit Committee will be held Wednesday, December 13, 2006, from 8 a.m. EST to 12 noon EST at the Hyatt Regency on Capitol Hill, 400 New Jersey Ave., NW., Washington, DC 20001. For information please contact Ms. Audrey Y. Jenkins. Ms. Jenkins may be reached at 1-888-912-1227 or (718) 488-2085; send written comments to Audrey Y. Jenkins, TAP Office, 10 MetroTech Center, 625 Fulton Street, Brooklyn, NY 11201 or post comments to the Web site: http://www.improveirs.org.

The agenda will include: Various IRS issues.

Dated: November 21, 2006.
John Fay,
Acting Director, Taxpayer Advocacy Panel.

[FR Doc. E6-20078 Filed 11-27-06; 8:45 am]

BILLING CODE 4830-01-P